DEPARTMENT OF ENERGY

Federal Energy Regulatory Commission

[Docket No. EL01-65-000]

Californians for Renewable Energy, Inc. (CARE) Complainant v. BC Hydro; PowerEx; Mirant; and the Los Angeles Department of Water and Power Respondents; Notice of Complaint

April 18, 2001.

Take notice that on April 16, 2001, Californians for Renewable Energy, Inc. (CARE) tendered for filing with the Federal Energy Regulatory Commission (Commission) a Complaint pursuant to section 206 of the Federal Power Act, 16 U.S.C. 824e, and Rule 206 of the Commission's Rules of Practice and Procedure, 18 CFR 385.206.

CARE requests the Commission to rectify unjust and unreasonable prices stemming from the wholesale markets for energy and ancillary services operated by the California Independent System Operator (CAISO) and investigate its relationship to market practices by BC Hydro, PowerEx, Mirant, and Bonneville Power Administration and the Los Angeles Department of Water and Power.

CARE alleges that BC Hydro, PowerEx, Mirant, the Bonneville Power Administration and the Los Angeles Department of Water and Power violated the Federal Power Act by withholding power during a period of peak demand to create a shortage and raise the price. CARE requests the Commission to investigate possible market manipulation by these entities, order refunds for overcharges made by these entities, and restore financial confidence in the California market by assuming full control of this market on the wholesale and retail side.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before May 8, 2001. Protests will be considered by the Commission in determining the appropriate action to be taken, but will not serve to make protestants parties to the proceeding. Any person wishing to become a party must file a motion to intervene. Copies of this filing are on file with the Commission and are available for public inspection in the Public Reference Room. This filing may also be viewed on the Internet at ­ http://www.ferc.fed.us/online/rims/htm (call 202-208-2222) for assistance. Answers to the complaint shall also be due on or before May 8, 2001.

David P. Boergers,
Secretary.

[FR Doc. 01-10032 Filed 4-23-01; 8:45 am]

BILLING CODE 6717-01-M